DEPARTMENT OF TRANSPORTATION

Surface Transportation Board

[STB Finance Docket No. 34747]

Central Puget Sound Regional Transit Authority—Acquisition Exemption—BNSF Railway Company

The Central Puget Sound Regional Transit Authority (Sound Transit), a noncarrier, has filed a verified notice of exemption under 49 CFR 1150.31 to acquire from BNSF Railway Company (BNSF) two lines of railroad, totaling approximately 22.35 miles on the Lakeview Subdivision located in Pierce County, WA. The rail lines are as follows: (1) The Lakeview North Segment, between milepost 2.15 in Tacoma and milepost 8.9 in Lakeview, and (2) the Lakeview South Segment, between milepost 8.9 in Lakeview and milepost 24.5 in Nisqually.

At the time of filing of the verified notice, Sound Transit and BNSF had executed purchase and sale agreements with respect to both segments. Sound Transit explains that it acquired the Lakeview North Segment on September 28, 2004,¹ and that it plans to acquire the Lakeview South Segment on September 28, 2005. Sound Transit states that, pursuant to the purchase and sale agreements, BNSF initially retained an exclusive freight easement with respect to operation of freight trains on the two line segments. It adds, however, that BNSF subsequently transferred its freight common carrier easement with respect to both segments to the City of Tacoma, WA, d/b/a Tacoma Rail, subject to retained trackage rights along a portion of the line it conveyed to the City. City of Tacoma, Department of Public Utilities, Beltline Division, d/b/a Tacoma Rail or Tacoma Municipal Beltline or TMBL—Acquisition and Operation Exemption—Lakeview Subdivision, Quadlok-St. Clair and Belmore-Olympia Rail Lines in Pierce and Thurston Counties, WA, STB Finance Docket No. 34555 (STB served Oct. 19, 2004). Sound Transit indicates that it is acquiring the two line segments for the purpose of providing wholly intrastate commuter rail passenger operations, and that it will not be providing rail freight service over the lines.²

¹ Sound Transit should have sought acquisition authority (accompanied by any motion to dismiss it wished to file) for the Lakeview North Segment when it acquired it in September 2004. Sound Transit is cautioned in the future to seek authority at the time of the transaction.

² For these reasons, Sound Transit has simultaneously filed a motion to dismiss the notice of exemption in this proceeding. The motion will be addressed in a subsequent Board decision.

If the notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34747, must be filed with the Surface Transportation Board, 1925 K Street, NW., Washington, DC 20423-0001. In addition, a copy of each pleading must be served on Charles A. Spitulnik, McLeod, Watkinson & Miller, One Massachusetts Avenue, NW., Suite 800, Washington, DC 20001.

Board decisions and notices are available on our Web site at http://www.stb.dot.gov.

Decided: September 16, 2005.
By the Board, David M. Konschnik, Director, Office of Proceedings.
Vernon A. Williams,
Secretary.

[FR Doc. 05-18944 Filed 9-23-05; 8:45 am]

BILLING CODE 4915-01-P